DEPARTMENT OF TRANSPORTATION

Federal Railroad Administration

Notice of Final Agency Actions on Proposed Railroad Project in California, on Behalf of the California High-Speed Rail Authority

AGENCY: Federal Railroad Administration (FRA), Department of Transportation (DOT).

ACTION: Notice.

SUMMARY: The FRA, on behalf of the California High-Speed Rail Authority (Authority), is issuing this notice to announce actions taken by the Authority that are final. By this notice, the FRA is advising the public of the time limit to file a claim seeking judicial review of the actions. The actions relate to a proposed railroad project, the California High-Speed Rail Project Fresno to Bakersfield Section: Locally Generated Alternative in Kern County, California. The Fresno to Bakersfield Locally Generated Alternative (F-B LGA) provides an alternative alignment for a 23.13-mile segment of the Fresno to Bakersfield Section between the City of Shafter and the City of Bakersfield. The F-B LGA station will be located at the intersection of State Route (SR) 204 and F Street in Bakersfield. A maintenance of infrastructure facility will be located along the F-B LGA in northern Shafter between Poplar Avenue and Fresno Avenue. These actions grant approvals for project implementation pursuant to the National Environmental Policy Act (NEPA).

DATES: A claim seeking judicial review of the agency actions on the railroad project will be barred unless the claim is filed August 25, 2022. If Federal law authorizes judicial review of a claim that provides a time period of less than two-years for filing such claim, then that shorter time period applies.

FOR FURTHER INFORMATION CONTACT:

For the Authority: Dan McKell, NEPA Assignment Manager, Environmental Services, California High-Speed Rail Authority, (telephone: 916-324-1541; email: dan.mckell@hsr.ca.gov).

For FRA: Stephanie Perez-Arrieta, Lead Environmental Protection Specialist, Federal Railroad Administration, (telephone: 202-493-0388; email: s.perez-arrieta@dot.gov).

SUPPLEMENTARY INFORMATION: Effective July 23, 2019, FRA assigned, and the State of California acting through the Authority assumed, environmental responsibilities for this project pursuant to 23 U.S.C. 327. Notice is hereby given that the Authority has taken final agency actions subject to 23 U.S.C. 139(l)(1) by issuing approvals for the following railroad project in California: California High-Speed Rail Project Fresno to Bakersfield Section: Locally Generated Alternative.

The purpose of the California HSR System is to provide a reliable high-speed electric-powered train system that links the major metropolitan areas of California, delivering predictable and consistent travel times. A further objective is to provide an interface with commercial airports, mass transit, and the highway network and to relieve capacity constraints of the existing transportation system as increases in intercity travel demand in California occur, in a manner sensitive to and protective of California's unique natural resources. For the portion of the Fresno to Bakersfield Section from just north of Poplar Avenue to and including the F Street Station (specifically to the intersection of 34th Street and L Street in Bakersfield), the Authority approves the F-B LGA and the F Street Station. As part of the California HSR System, the F-B LGA will provide the public with electric-powered HSR service that provides predictable and consistent travel times between major urban centers and connectivity to airports, mass transit, and the highway network in the south San Joaquin Valley, and that connects the northern and southern portions of the system. The F-B LGA supports the purpose and need of the Project. The Authority has selected this alternative and corresponding station because: (1) It best satisfies the Purpose, Need, and Objectives for the proposed action; and (2) it minimizes impacts on the natural and human environment by utilizing an existing transportation corridor where practicable and incorporating mitigation measures. Accordingly, from just north of Poplar Avenue to and including the F Street Station (specifically to the intersection of 34th Street and L Street in Bakersfield), the F-B LGA and the F Street Station have been selected and approved for project implementation. This conclusion does not change FRA's conclusions and decision in the 2014 ROD north of Poplar Avenue.

The actions by the Authority, and the laws under which such actions were taken, are described in the Combined Supplemental Record of Decision (ROD) and Final Supplemental Environmental Impact Statement (Final Supplemental EIS) on the Locally Generated Alternative of the Fresno to Bakersfield Project Section (F-B) of the California High-Speed Rail Project, approved on October 31, 2019. The Combined Supplemental ROD and Final Supplemental EIS and other documents are available online in PDF format at the Authority website: www.hsr.ca.gov and on CD-ROM by calling (916) 324-1541.

The notice applies to all Federal agency decisions as of the issuance date of this notice and all laws under which such actions were taken, including but not limited to:

1. Council on Environmental Quality regulations;

2. NEPA;

3. Fixing America's Surface Transportation Act (FAST Act);

4. Department of Transportation Act of 1966, Section 4(f);

5. Land and Water Conservation Fund (LWCF) Act of 1965, Section 6(f);

6. Clean Air Act Amendments of 1990;

7. Clean Water Act of 1977 and 1987;

8. Endangered Species Act of 1973;

9. Migratory Bird Treaty Act;

10. National Historic Preservation Act of 1966, as amended;

11. Executive Order 11990, Protection of Wetlands;

12. Executive Order 11988, Floodplain Management;

13. Executive Order 12898, Federal Actions to Address Environmental Justice in Minority Populations and Low-Income Populations; and

14. Executive Order 13112, Invasive Species.

Issued in Washington, DC.
Jamie P. Rennert,
Director, Office of Program Delivery.

[FR Doc. 2020-18603 Filed 8-24-20; 8:45 am]

BILLING CODE 4910-06-P